DEPARTMENT OF DEFENSE

Department of the Army; Corps of Engineers

Intent To Prepare a Draft Supplemental Environmental Impact Statement to the July 2002 Final Dredged Material Management Plan and Environmental Impact Statement, McNary Reservoir and Lower Snake River Reservoirs, in the States of Oregon, Washington, and Idaho

AGENCY: U.S. Army Corps of Engineers, DOD.

ACTION: Notice of intent.

SUMMARY: The U.S. Army Corps of Engineers (Corps), Walla Walla District, intends to prepare a Supplemental Environmental Impact Statement (SEIS) to the July 2002 Final Dredged Material Management Plan (DMMP) and Environmental Impact Statement (EIS): McNary Reservoir and Lower Snake River Reservoirs. The DMMP/EIS addressed a 20-year, programmatic approach the Corps would use to maintain the navigation channel within the Walla Walla District. The study reach considered includes Lake Wallula above McNary Dam on the Columbia River in Oregon and Washington; the four lower Snake River reservoirs extending from the mouth of the Snake River upstream to the communities of Lewiston, Idaho, and Clarkston, Washington; and the lower 2 miles of the Clearwater River from its confluence with the Snake River at Lewiston upstream to the U.S. Highway 12 Bridge. This supplement will reorganize and clarify information already included in the DMMP/EIS, expand the discussions and evaluations of measures considered in the DMMP/EIS, incorporate new information and data collected subsequent to the issuance of the DMMP/EIS, and modify alternatives, as needed, including the preferred alternative. When completed and approved, this SEIS, along with the DMMP/EIS, will constitute the Corps' long-term programmatic plan for maintaining the congressionally-authorized channel within the Walla Walla District.

The Environmental Protection Agency (EPA), Region 10, was a cooperating agency for the DMMP/EIS, and will also be a cooperating agency for this SEIS. The Corps will work with EPA during development of the SEIS to consider and incorporate, as appropriate, the policies and procedures currently evolving for the Northwest Regional Dredging Team (RDT), as referred to in the April 26, 2002, policy letter jointly signed by Brigadier General David A. Fastabend, Corps of Engineers, Northwestern Division Commander, and L. John Iani, EPA Region 10 Administrator.

DATES: Submit comments by July 7, 2003.

FOR FURTHER INFORMATION CONTACT: Mr. Jack Sands, Project Manager, Walla Walla District, Corps of Engineers, CENWW-PM-PPM, 201 North Third Avenue, Walla Walla, WA 99362, phone (509) 527-7287, or Ms. Sandra Simmons, NEPA Coordinator, Walla Walla District, Corps of Engineers, CENWW-PD-EC, 201 North Third Avenue, Walla Walla, WA 99362, phone (509) 527-7265.

SUPPLEMENTARY INFORMATION: The DMMP/EIS defined the programmatic approach the Corps planned to follow for the next 20 years for maintaining the congressionally authorized navigation channel by managing sediment deposition, dredging, and disposing of dredged material removed from those reaches of the Columbia, Snake, and Clearwater Rivers that make up that portion of the Columbia/Snake Rivers Inland Navigation Waterway within the Walla Walla District boundaries. The DMMP/EIS also addressed the need to provide flow conveyance at the confluence of the Snake and Clearwater Rivers at Lewiston, Idaho, as dredging has been used to maintain adequate flow conveyance in this area. The DMMP/EIS considered four alternatives: (1) No Action (No Change), Maintenance Dredging With In-Water Disposal; (2) Maintenance Dredging With In-Water Disposal to Create Fish Habitat and a 3-Foot Levee Raise; (3) Maintenance Dredging With Upland Disposal and a 3-Foot Levee Raise; and (4) Maintenance Dredging With Beneficial Use of Dredged Material and a 3-Foot Levee Raise.

The DMMP/EIS and September 2002 Record of Decision (ROD) were challenged in court and have not been implemented. Information regarding the case, which was filed in the U.S. District Court for the Western District of Washington, can be viewed on the Walla Walla District Web site at http://www.nww.usace.army.mil/dmmp/hot_topics_dmmp.htm.

In response to the court challenge, the Corps decided to withdraw the ROD for the Final DMMP/EIS and prepare an SEIS. The SEIS will reorganize and clarify information already included in the DMMP/EIS, expand the discussions and evaluations of measures considered in the DMMP/EIS, incorporate new information and data collected subsequent to the issuance of the DMMP/EIS, and modify alternatives, as needed, including the preferred alternative. Additional measures and alternatives identified during the evaluation will also be considered. The SEIS will address measures, alternatives, and impacts on a programmatic level, but will not address site-specific actions. However, the SEIS will present the coordination and environmental review steps the Corps will take with regard to subsequent site-specific actions. The SEIS will also continue to include input from a local, interagency sediment management group formed under the Northwest RDT. After public review of the final SEIS, the Corps intends to sign a new ROD for the programmatic plan.

As per 40 CFR 1502.20 and 1508.28 of the Council on Environmental Quality Regulations for Implementing the Procedural Provisions of the National Environmental Policy Act (NEPA), the Corps intends to use a tiered approach for addressing site-specific activities performed subsequent to the SEIS and ROD. For each activity, the Corps plans to prepare the compliance documentation necessary to tier off of the programmatic plan.

The site-specific documentation will address details of the proposed activity and the impacts of that activity.

As per 40 CFR section 1502.9(c)(4) of the Council on Environmental Quality Regulations for Implementing the Procedural Provisions of the National Environmental Policy Act, the Corps does not plan to conduct scoping for this SEIS. However, affected Federal, state, and local agencies; Indian tribes; and other interested organizations and parties are invited to provide input to the Corps on the scope of this SEIS. To ensure consideration, input on the scope should be provided to the Corps by comment date (See Dates). Additional opportunities for public input on the SEIS will be provided during the normal review periods for the draft and final SEIS.

The draft SEIS is currently scheduled to be available for public review in late 2003. The final SEIS is currently scheduled to be available for public review in early 2004.

Edward Kertis, Jr.,
LTC, EN, Commanding.

[FR Doc. 03-14157 Filed 6-4-03; 8:45 am]

BILLING CODE 3710-GC-M